DEPARTMENT OF COMMERCE

Foreign-Trade Zones Board

[S-65-2013]

Foreign-Trade Zone 61—San Juan, Puerto Rico Application for Subzone, Parapiezas Corporation Amendment of Application

The Puerto Rico Trade & Export Company, grantee of FTZ 61, has amended its application requesting subzone status for the facility of Parapiezas Corporation (78 FR 28800, 5/16/2013). The grantee is now requesting that the proposed subzone consist of a new location at 869 Street, Intersection PR-22 Bo. Palmas, in Cataño, Puerto Rico. The subzone location initially proposed is no longer being requested. No authorization for production activity has been requested at this time. The proposed subzone would be subject to the existing activation limit of FTZ 61.

Public comment is invited from interested parties. Submissions shall be addressed to the Board's Executive Secretary at the address below. The closing period for their receipt is January 10, 2014. Rebuttal comments in response to material submitted during the foregoing period may be submitted during the subsequent 15-day period to January 27, 2014.

A copy of the amended application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: December 6, 2013.
Andrew McGilvray,
Executive Secretary.

[FR Doc. 2013-29591 Filed 12-10-13; 8:45 am]

BILLING CODE 3510-DS-P